NUCLEAR REGULATORY COMMISSION

10 CFR Part 50

[Docket No. PRM-50-83]

Project on Government Oversight and Union of Concerned Scientists; Receipt of Petition for Rulemaking

AGENCY: U.S. Nuclear Regulatory Commission.

ACTION: Petition for rulemaking; notice of receipt.

SUMMARY: The U.S. Nuclear Regulatory Commission (NRC) is publishing for public comment a notice of receipt of a petition for rulemaking, dated February 23, 2007, which was filed with the Commission by David Lochbaum, on behalf of the Project On Government Oversight and the Union of Concerned Scientists. The petition was docketed by the NRC on March 5, 2007, and has been assigned Docket No. PRM-50-83. The petitioners request that the NRC amend its regulations to require periodic demonstrations by applicable local, State and Federal entities to ensure that nuclear power plants can be adequately protected against radiological sabotage greater than the design basis threat.

DATES: Submit comments by June 12, 2007. Comments received after this date will be considered if it is practical to do so, but the Commission is able to assure consideration only for comments received on or before this date.

ADDRESSES: You may submit comments by any one of the following methods. Please include PRM-50-83 in the subject line of your comments. Comments on petitions submitted in writing or in electronic form will be made available for public inspection. Because your comments will not be edited to remove any identifying or contact information, the NRC cautions you against including any information in your submission that you do not want to be publicly disclosed.

Mail comments to: Secretary, U.S. Nuclear Regulatory Commission, Washington, DC 20555-0001, ATTN: Rulemakings and Adjudications Staff.

E-mail comments to: SECY@nrc.gov If you do not receive a reply e-mail confirming that we have received your comments, contact us directly at (301) 415-1966. You may also submit comments via the NRC's rulemaking Web site at http://ruleforum.llnl.gov. Address questions about our rulemaking Web site to Carol Gallagher (301) 415-5905; e-mail cag@nrc.gov. Comments can also be submitted via the Federal e-Rulemaking Portal http://www.regulations.gov.

Hand deliver comments to: 11555 Rockville Pike, Rockville, Maryland 20852, between 7:30 a.m. and 4:15 p.m., Federal workdays. (Telephone (301) 415-1966).

Fax comments to: Secretary, U.S. Nuclear Regulatory Commission at (301) 415-1101.

Publicly available documents related to this petition may be viewed electronically on the public computers located at the NRC's Public Document Room (PDR), Room 01 F21, One White Flint North, 11555 Rockville Pike, Rockville, Maryland. The PDR reproduction contractor will copy documents for a fee. Selected documents, including comments, may be viewed and downloaded electronically via the NRC rulemaking Web site at http://ruleforum.llnl.gov.

Publicly available documents created or received at the NRC after November 1, 1999, are available electronically at the NRC's Electronic Reading Room at http://www.nrc.gov/reading-rm/adams.html. From this site, the public can gain entry into the NRC's Agencywide Document Access and Management System (ADAMS), which provides text and image files of NRC's public documents. If you do not have access to ADAMS or if there are problems in accessing the documents located in ADAMS, contact the PDR Reference staff at 1-800-397-4209, 301-415-4737 or by e-mail to pdr@nrc.gov.

FOR FURTHER INFORMATION CONTACT: Michael T. Lesar, Chief, Rulemaking, Directives and Editing Branch, Division of Administrative Services, Office of Administration, U.S. Nuclear Regulatory Commission, Washington, DC 20555-0001, Telephone: 301-415-7163 or Toll Free: 1-800-368-5642.

SUPPLEMENTARY INFORMATION:

The Petitioners

The petitioners are the Project On Government Oversight and the Union of Concerned Scientists. The petitioners state that the Project On Government Oversight, formerly the Project on Military Procurement, previously worked to reform military spending. After experiencing success, the petitioner expanded its mission to include the investigation of systemic waste, fraud and abuse in all Federal agencies, including the important topic of nuclear plant security.

The petitioners state that the Union of Concerned Scientists is a nonprofit partnership of scientists and citizens that combines scientific analysis, policy development, and citizen advocacy to achieve practical environmental solutions. In 2002, the Union of Concerned Scientists had 61,300 members. The petitioners state that the Union of Concerned Scientists has been an active participant in the past in public meetings conducted by NRC regarding security regulations, and the petitioner continues to articulate potential problems and recommended solutions in various public arenas.

Background

Current regulations at 10 CFR part 73 contain requirements for the physical protection of nuclear power plants and materials. On January 29, 2007, the Commission approved the issuance of a final rule which revises § 73.1 to establish a new design basis threat (DBT) level. The final DBT rule was published in the Federal Register on March 19, 2007. (72 FR 12705)

The petitioners observe that the final DBT rule reflects the Commission's determination of the most likely composite set of adversary features against which private security forces should reasonably have to defend. The petitioners believes that the DBT level set forth in the final rule is less what is determined to be the maximum level deemed credible by the national intelligence community, and that the potential exists for radiological sabotage at a level greater than the new DBT level. The petitioners therefore state that the defense of a nuclear power plant against a threat greater than the DBT would depend on the supplementation by local, State and Federal entities.

The Proposed Amendment

The petitioners request that the NRC amend its regulations at 10 CFR part 50 to require periodic demonstrations that nuclear power plants can be adequately protected against radiological sabotage above the DBT level. Current regulations in Appendix E to 10 CFR part 50 require periodic demonstrations that plant owners and external authorities can successfully meet their responsibilities during nuclear power plant emergencies. The petitioners point out, however, that the Commission's regulations do not provide for periodic demonstration by applicable local, State and Federal entities to ensure that nuclear power plants are protected against radiological sabotage above the DBT level. The petitioners state that their requested amendment would provide reasonable assurance that external authorities could demonstrate that adequate protection is also available against radiological sabotage greater than the DBT level.

The petitioners believe that in order for Americans to be adequately protected, nuclear power plants must be defended against both DBT and beyond-DBT attacks. Therefore, the petitioners request that 10 CFR part 50 be amended in a way similar to current Appendix E to require periodic exercises involving licensees and applicable local, State and Federal entities to demonstrate their capabilities to protect from radiological sabotage greater than the DBT level.

Conclusion

The petitioners believe that the proposed amendment to 10 CFR part 50 will complement current regulations by requiring periodic demonstrations by applicable local, State and Federal entities to ensure that nuclear power plants can be adequately protected against radiological sabotage greater than the DBT level. Accordingly, the petitioners request that the NCR amend its regulations related to emergency preparedness as described previously in the section titled, “The Proposed Amendment.”

Dated at Rockville, Maryland, this 23rd day of March 2007.
For the Nuclear Regulatory Commission.
Annette L. Vietti-Cook,
Secretary of the Commission.

[FR Doc. 07-1543 Filed 3-28-07; 8:45 am]

BILLING CODE 7590-01-M